DEPARTMENT OF HOUSING AND URBAN DEVELOPMENT

24 CFR Part 982

[Docket No. FR-4759-C-04]

RIN 2577-AC39

Housing Choice Voucher Program Homeownership Option: Eligibility of Units Owned or Controlled by a Public Housing Agency; Correction

AGENCY: Office of the Assistant Secretary for Public and Indian Housing, HUD.

ACTION: Final rule; correction.

SUMMARY: On September 17, 2003, HUD published a final rule adopting without change an October 28, 2002, interim rule establishing the eligibility of units owned or substantially controlled by a public housing agency (PHA) for purchase under the Housing Choice Voucher Program homeownership option. The amendatory instruction in the final rule contained a technical error. The document makes the necessary correction.

DATES: Effective Date: The effective date for the September 17, 2003, final rule is unchanged. The final rule will take effect on October 17, 2003.

FOR FURTHER INFORMATION CONTACT: Gerald J. Benoit, Office of Public and Indian Housing, Department of Housing and Urban Development, Room 4210, 451 Seventh Street, SW., Washington, DC 20410-5000; telephone (202) 708-0477. (This is not a toll-free number.) Hearing- or speech-impaired individuals may access this number via TTY by calling the toll-free Federal Information Relay Service at 1-800-877-8339.

SUPPLEMENTARY INFORMATION:

The final rule FR Doc. 03-23636, published on September 17, 2003, (68 FR 54335) is corrected as follows:

On page 54336, in the second column, correct the amendatory instruction to read as follows:

Accordingly, for the reasons stated in the preamble, the interim rule for part 982 of title 24 of the Code of Federal Regulations, published on October 28, 2002, 67 FR 65864, as corrected on November 6, 2002, 67 FR 67522, is promulgated as final, without change.

Dated: October 1, 2003.
Camille Acevedo,
Associate General Counsel for Legislation and Regulations.

[FR Doc. 03-25325 Filed 10-6-03; 8:45 am]

BILLING CODE 4210-33-P